DEPARTMENT OF HEALTH AND HUMAN SERVICES

Centers for Disease Control and Prevention

[60Day-06-05BP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Healthier Worksite Initiative—CDC Employee Needs Assessment—New—Division of Nutrition and Physical Activity (DNPA), National Center for Chronic Disease Prevention and Health Promotion (NCCDPHP), Centers for Disease Control and Prevention (CDC).

Background and Brief Description

In October 2002, in line with HHS initiatives, the CDC Director began a Healthier Worksite Initiative (HWI) for CDC, focusing on the four pillars of the President's Healthier U.S. Workforce directive: Physical activity, healthy eating, preventive screening, and making healthy choices. The Division of Nutrition and Physical Activity (DNPA) was designated to lead the initiative within CDC. Two entities were established to support the planning and evaluation of the Healthier Worksite Initiative, the Healthier Worksite Advisory Committee and the Healthier Worksite Workgroup. The Advisory Committee includes representatives from all interested Centers, Institutes, and Offices within CDC. The committee meets monthly to review progress and provide direction for the Healthier Worksite Initiative. The Healthier Worksite Workgroup develops innovative worksite health program ideas and tests them in demonstration projects.

The purpose of the Healthier Worksite Initiative at CDC is to: (1) Develop and evaluate worksite health promotion interventions for CDC employees, culminating in a model worksite health promotion program; (2) establish an evidence base for worksite health promotion interventions; and (3) develop a web-based tool kit to share information learned with other Federal agencies, as they refine or develop their own employee health promotion programs.

This request for OMB approval is to conduct a web-based CDC employee needs assessment that includes a baseline measurement of employee health practices. The employee needs assessment will be offered to permanent employees, contractors, fellows, and guest researchers, and will provide a foundation of information to determine the direction and requirements for building a successful worksite health promotion program. An additional outcome of the HWI project will be a Web site which will serve as a resource for government agencies and the general public for implementation of Healthier U.S. pillars in work settings.

Tracking and evaluation of program effectiveness are standard health promotion tools. Monitoring methods that may be used in the future to assess and improve the effectiveness of the HWI program include: e-mail surveys, telephone surveys, telephone or in-person focus groups, web-based surveys, or intercept interviews, which aim at intercepting employees in their natural environment and deliver a short structured questionnaire on their habits, preferences, perceptions or behavior. There is no cost to the respondents other than their time to participate in the survey.

Estimate of Annualized Burden Hours
Respondents | Number of respondents | Number of responses/respondent | Average burden per response (in hours) | Total burden hours
CDC Employee's Screened | 16,980 | 1 | 1/60 | 283
CDC Employee Respondents | 8,490 | 1 | 9/60 | 1274
Total |  |  |  | 1557

Dated: September 26, 2006.
Joan F. Karr,
Acting Reports Clearance Officer, Centers for Disease Control and Prevention.

[FR Doc. E6-16306 Filed 10-2-06; 8:45 am]

BILLING CODE 4163-18-P